FEDERAL COMMUNICATIONS COMMISSION

47 CFR Part 73

[DA 05-2019; MB Docket No. 05-230; RM-11032]

Radio Broadcasting Services; Auxvasse and Crestwood, MO

AGENCY: Federal Communications Commission.

ACTION: Proposed rule.

SUMMARY: This document requests comments on a Petition for Rule Making filed by Charles Crawford requesting the allotment of Channel 235A at Auxvasse, Missouri, as that community's first local service. The proposal also requires the reclassification of Station KSHE(FM), Crestwood, Missouri, Channel 234C to specify operation on Channel 234C0 pursuant to the reclassification procedures adopted by the Commission. See Second Report and Order in MM Docket 98-93, 1998 Biennial Regulatory Review—Streamlining of Radio Technical Rules in Parts 73 and 74 of the Commission's Rules, 65 FR 79773 (2000). An Order to Show Cause was issued to Emmis Radio License, LLC, licensee of Station KSHE(FM). Channel 235A can be allotted at Auxvasse, Missouri, at Petitioner's requested site 10.3 kilometers (6.4 miles) southwest at reference coordinates 38-58-04 NL and 91-59-47 WL.

DATES: Comments must be filed on or before September 6, 2005, and reply comments on or before September 20, 2005. Any counterproposal filed in this proceeding need only protect Station KSHE(FM), Crestwood, Missouri, as a Class C0 allotment.

ADDRESSES: Federal Communications Commission, 445 Twelfth Street, SW., Washington, DC 20554. In addition to filing comments with the FCC, interested parties should serve the petitioner as follows: Charles Crawford, 4553 Bordeaux Avenue, Dallas, Texas 75205.

FOR FURTHER INFORMATION CONTACT: Rolanda F. Smith, Media Bureau, (202) 418-2180.

SUPPLEMENTARY INFORMATION: This is a synopsis of the Commission's Notice of Proposed Rule Making, MB Docket No. 05-230, adopted July 13, 2005, and released July 15, 2005. The complete text of this decision may also be purchased from the Commission's duplicating contractor, Best Copy and Printing, Inc., 445 12th Street, SW., Room CY-B402, Washington, DC 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Missouri is amended by adding Auxvasse, Channel 235A, by removing Channel 234C and by adding Channel 234C0 at Crestwood.

Federal Communications Commission.
John A. Karousos,
Assistant Chief, Audio Division, Media Bureau.

[FR Doc. 05-14960 Filed 8-2-05; 8:45 am]

BILLING CODE 6712-01-P